NUCLEAR REGULATORY COMMISSION

Announcement of Public Workshop on License Renewal Continuing Guidance Development

AGENCY: Nuclear Regulatory Commission.

ACTION: Notice of public workshop.

SUMMARY: The United States Nuclear Regulatory Commission (NRC) will hold a public workshop on implementation of Title 10 of the Code of Federal Regulations, (10 CFR) part 54, “Requirements for Renewal of Operating Licenses for Nuclear Power Plants” (the license renewal rule) and Part 51 (environmental issues). The purpose of the workshop is to exchange information between applicant, the NRC staff reviewers, and other stakeholders that will lead to enhancing the license renewal application (LRA) in a manner that provides the most efficient review by the NRC staff and enhances public confidence. The workshop is intended to allow for an open exchange between the stakeholders. It will provide an opportunity to discuss lessons learned in the license renewal process. On day one, part 54 is discussed, and on the second day, part 51 is discussed.

The NRC staff will consider the comments received from the workshop participants to improve the license renewal guidance documents NUREG-1800, “Standard Review Plan for Review of License Renewal Applications for Nuclear Power Plants”, NUREG 1801, “Generic Aging Lessons Learned (GALL) report,” and Regulatory Guide (RG) 1.188 “Standard Format and Content for Applications to Renew Nuclear Power Plant Operating Licenses.” NEI will consider the comments to improve NEI 95-10, “Industry Guideline for Implementing the Requirements of 10 CFR part 54—The License Renewal Rule,” as appropriate.

The workshop will be conducted in a roundtable format to allow for interaction between presenters and attendees. This is a Category 3 Meeting. The public is invited to participate in this meeting by providing comments and asking questions throughout the meeting.

DATES: October 22, 2002, 9 a.m. to 4 p.m.; October 23, 2002, 9 a.m. to 12 noon.

ADDRESSES: U.S. Nuclear Regulatory Commission, Two White Flint North, 11545 Rockville Pike, Auditorium, Rockville, Maryland.

For further information contact: Raj Anand, Mail Stop O-12D3, Office of Nuclear Reactor Regulation, U.S. Nuclear Regulatory Commission, Washington, DC, 20555-0001, Telephone: 301-415-1146; Fax: 301-415-2279, e-mail: rka@nrc.gov.

Agenda

Tuesday, October 22, 2002

8:30 a.m: Registration—TWFN Auditorium

9 a.m. to 4 p.m.

• Opening remarks by NRC

• Opening remarks by NEI

• Purpose and format of the workshop

• License renewal application format

Industry proposal Class of 2003 applications

Tables consistent with generic aging lessons learned (GALL) report, not consistent with GALL, links, columns, number of subgroups, order of table data, table headings

Lessons learned from LRA submittals, request for additional information (RAI), acceptable GALL deviations

Staff-applicant interface

Document revisions GALL, Standard Review Plan (SRP), NEI 95-10

—Short term

—Long term

Round table discussion

Path going forward

• Interim staff guidance

—Current status

—Interim guidance use during application review

—Looking ahead

Lunch

• Format and content of time-limited aging analyses (TLAA)

• Generic guidance

—Electrical cable programs

—Environmentally assisted fatigue

—Criterion 54.4(a)(2) for scoping

—System realignment

• On-site inspections lessons learned, scoping, regional inspections, project manager-applicant interface

• Summary and follow-up actions

Wednesday, October 23, 2002

9 a.m. to Noon

• Opening remarks by NRC

• Opening remarks by NEI

• Purpose and format of the workshop

• Environmental reviews

• Format and content of public meetings

• Generic issues of public interest

—Radiological

—Endangered species

—Alternatives

—Severe accident mitigation alternative (SAMA) evaluation

—Lessons learned

—Poster session, lessons learned

• Summary and follow-up actions

Dated at Rockville, Maryland, this 25th day of September 2002.
For the Nuclear Regulatory Commission.
Pao-Tsin Kuo,
Program Director, License Renewal and Environmental Impacts Division of Regulatory Improvement Programs, Office of Nuclear Reactor Regulation.

[FR Doc. 02-25085 Filed 10-1-02; 8:45 am]

BILLING CODE 7590-01-P